DEPARTMENT OF HEALTH AND HUMAN SERVICES

Health Resources and Services Administration

National Advisory Council on Migrant Health; Notice of Meeting

In accordance with section 10(a)(2) of the Federal Advisory Committee Act (Public Law 92-463), notice is hereby given of the following meeting:

Name: National Advisory Council on Migrant Health

Dates and Times: October 22, 2014, 8:00 a.m. to 5:00 p.m. October 23, 2014, 8:00 a.m. to 5:00 p.m.

Place: Sheraton Pittsburgh Hotel at Station Square, 300 W Station Square Drive, Pittsburgh, Pennsylvania 15219, Telephone: 412-261-2000, Fax: 412-261-2932.

Status: The meeting will be open to the public.

Purpose: The purpose of the meeting is to discuss services and issues related to the health of migratory and seasonal agricultural workers and their families and to formulate recommendations for the Secretary of Health and Human Services.

Agenda: The agenda includes an overview of the Council's general business activities. The Council will also hear presentations from experts on agricultural worker issues, including the status of agricultural worker health at the local and national levels.

In addition, the Council will be holding a public hearing at which migratory and seasonal agricultural workers will have the opportunity to testify before the Council regarding matters that affect the health of migratory and seasonal agricultural workers. The hearing is scheduled for Wednesday, October 22, 2014 from 1:30 p.m. to 4:30 p.m., at the Sheraton Pittsburgh Hotel at Station Square.

Agenda items are subject to change as priorities indicate.

FOR FURTHER INFORMATION CONTACT: Gladys Cate, Office of National Assistance and Special Populations, Bureau of Primary Health Care, Health Resources and Services Administration, 5600 Fishers Lane, Room 15-74, Maryland 20857; telephone (301) 594-0367.

Dated: August 19, 2014.
Jackie Painter,
Acting Director, Division of Policy and Information Coordination.

[FR Doc. 2014-20312 Filed 8-25-14; 8:45 am]

BILLING CODE 4165-15-P